DEPARTMENT OF JUSTICE

Drug Enforcement Administration

[Docket No. DEA-392]

Bulk Manufacturer of Controlled Substances Application: National Center for Natural Products Research NIDA MPROJECT

ACTION: Notice of application.

DATES: Registered bulk manufacturers of the affected basic classes, and applicants therefore, may file written comments on or objections to the issuance of the proposed registration on or before October 30, 2018.

ADDRESSES: Written comments should be sent to: Drug Enforcement Administration, Attention: DEA Federal Register Representative/DRW, 8701 Morrissette Drive, Springfield, Virginia 22152.

SUPPLEMENTARY INFORMATION: The Attorney General has delegated his authority under the Controlled Substances Act to the Administrator of the Drug Enforcement Administration (DEA), 28 CFR 0.100(b). Authority to exercise all necessary functions with respect to the promulgation and implementation of 21 CFR part 1301, incident to the registration of manufacturers, distributors, dispensers, importers, and exporters of controlled substances (other than final orders in connection with suspension, denial, or revocation of registration) has been redelegated to the Assistant Administrator of the DEA Diversion Control Division pursuant to section 7 of 28 CFR part 0, appendix to subpart R.

In accordance with 21 CFR 1301.33(a), this is notice that on July 6, 2018, National Center for Natural Products Research NIDA MPROJECT, University of Mississippi, 135 Coy Waller Complex, P.O. Box 1848, University, Mississippi 38677-1848 applied to be registered as a bulk manufacturer of the following basic classes of controlled substances:

Controlled substance | Drug code | Schedule
Marihuana Extract | 7350 | I
Marihuana | 7360 | I
Tetrahydrocannabinols | 7370 | I

The company plans to bulk manufacture the listed controlled substances to make available to the National Institute on Drug Abuse (NIDA) a supply of bulk marihuana for distribution to research investigators in support of the national research program needs. No other activities for these drug codes are authorized for this registration.

Dated: August 22, 2018.
John J. Martin,
Assistant Administrator.

[FR Doc. 2018-18983 Filed 8-30-18; 8:45 am]

BILLING CODE 4410-09-P